Delaware River Basin Commission

Notice of Commission Meeting and Public Hearing

Notice is hereby given that the Delaware River Basin Commission will hold an informal conference followed by a public hearing on Wednesday, November 15, 2000. The hearing will be part of the Commission's regular business meeting. Both the conference session and business meeting are open to the public and will be held at the Sheraton Bucks County Hotel, 400 Oxford Valley Road, Langhorne, Pennsylvania.

The conference among the Commissioners and staff will begin at 9:30 a.m. Topics of discussion will include progress reports on the Commission's Comprehensive Plan and Flow Needs Study; a status report on a resolution amending water usage reporting requirements; a proposal for the DRBC to continue to house the Delaware Estuary Program Coordinator and perform certain other administrative functions; and, time permitting, a proposal to institute project review upon retirement of entitlements. Summaries of the following five meetings will be presented: The Water Quality Advisory Committee meeting of October 4; the Toxics Advisory Committee meetings of October 6, October 18 and November 2; and the Christina Basin Policy Committee meeting of November 3. Also scheduled for the conference session is a dialogue with citizens from the West Branch fishery.

The subjects of the public hearing to be held during the 1:30 p.m. business meeting include, in addition to the dockets listed below, two proposed resolutions—one amending the Comprehensive Plan with respect to recreation areas in the Commonwealth of Pennsylvania and another adopting the Commission's FY 2002 budgets.

The dockets scheduled for public hearing will be as follows:

1. Pennsylvania Department of Conservation and Natural Resources D-80-7 CP RENEWAL 3. A renewal of a ground water withdrawal project to supply up to 3 million gallons (mg)/30 days of water to French Creek State Park from Wells A and B in the Hammer Creek Formation. The applicant requests that the total withdrawal from all wells remain limited to 3 mg/30 days. The project is located in Union Township, Berks County in the Southeastern Pennsylvania Ground Water Protected Area.

2. PSEG Nuclear LLC D-90-71 RENEWAL. A renewal of a ground water withdrawal project to supply up to 43.2 mg/30 days of water for use at the applicant's Salem and Hope Creek nuclear powered electric generating stations from existing Wells Nos. PW-2 and PW-3 in the Mount Laurel-Wenonah aquifer; Well No. PW-6 in the Middle Raritan aquifer; and Wells Nos. PW-5, HC-1 and HC-2 in the Upper Raritan aquifer. No increase in maximum allocation is proposed, and the water will continue to be used mainly for on-site potable supply as well as industrial processes. The project is located in Lower Alloways Creek Township, Salem County, New Jersey.

3. City of Wilmington D-98-26 CP. A project to rerate the applicant's existing sewage treatment plant (STP) from an average monthly flow of 90 million gallons per day (mgd) to a yearly average flow of 105 mgd, with a maximum allowable monthly flow of 134 mgd to treat additional Combined Sewer Overflow. The STP is located in the City of Wilmington, New Castle County, Delaware, and will continue to serve most of northern New Castle County and provide advanced secondary treatment prior to discharge to the Delaware River in Water Quality Zone 5.

4. Asbury Farms c/o The Cotton Group, Inc. D-98-52. A ground water withdrawal project to supply up to 11 mg/30 days of water to the applicant's golf course from new holding Pond No. 1, supplemented as needed with water from new Well No. 1 in the Kittatinny Formation. The project is located in Washington Township, Warren County, New Jersey.

5. Northampton, Bucks County Municipal Authority D-99-1 CP. A ground water withdrawal project to supply up to 7.2 mg/30 days of water to the applicant's public water distribution system from new Well No. 16, and to retain the existing withdrawal limit from all wells at 66 mg/30 days. The project is located in Northampton Township, Bucks County in the Southeastern Pennsylvania Ground Water Protected Area.

6. Bucks County Water & Sewer Authority D-2000-22 CP. A project to expand the applicant's existing Green Street sewage treatment plant from 0.7 mgd to 1.2 mgd. The STP is located off Green Street near the State Route 202 bypass in Doylestown Borough and Doylestown Township, Bucks County, Pennsylvania and will continue to provide advanced secondary treatment for Doylestown Borough and Doylestown Township. The STP will continue to discharge to Country Club Run, a tributary of Neshaminy Creek.

7. Nova-Borealis Compounds LLC D-2000-39. A ground water withdrawal project to supply up to 27 mg/30 days of water to the applicant's industrial facility from existing Wells Nos. 1, 2 and 3 in the Martinsburg Shale Formation, and to limit the withdrawal from all wells to 27 mg/30 days. The project is located in Mansfield Township, Warren County, New Jersey.

In addition to the public hearing, the Commission will address the following at its 1:30 p.m. business meeting: minutes of the September 28, 2000 business meeting; announcements; report on hydrologic conditions in the basin; reports by the Executive Director and General Counsel; and public dialogue.

Documents relating to the dockets and other items may be examined at the Commission's offices. Preliminary dockets are available in single copies upon request. Please contact Thomas L. Brand at (609) 883-9500 ext. 221 with any docket-related questions. Persons wishing to testify at this hearing are requested to register in advance with the Secretary at (609) 883-9500 ext. 203.

Individuals in need of an accommodation as provided for in the Americans With Disabilities Act who wish to attend the hearing should contact the Commission Secretary, Pamela M. Bush, directly at (609) 883-9500 ext. 203 or through the New Jersey Relay Service at 1-800-852-7899 (TTY) to discuss how the Commission may accommodate your needs.

Dated: October 30, 2000.
Pamela M. Bush,
Commission Secretary.

[FR Doc. 00-28875 Filed 11-9-00; 8:45 am]

BILLING CODE 6360-01-P